COMMISSION ON CIVIL RIGHTS

Sunshine Act Meeting

AGENCY: U.S. Commission on Civil Rights.

DATE AND TIME: Friday, March 8, 2002—9:30 a.m.

PLACE: U.S. Commission on Civil Rights, 62 Ninth Street, NW., Room 540, Washington, DC 20425.

STATUS:

Agenda

I. Approval of Agenda

II. Approval of Minutes of February 8, 2002 Meeting

III. Announcements

IV. Staff Director's Report

V. State Advisory Committee Appointments for Nebraska and New Mexico

VI. Briefing on Bioterrorism and Health Care Disparities

VII. Environmental Protection Agency Documents Hearing

VIII. Future Agenda Items

CONTACT PERSON FOR FURTHER INFORMATION: Les Jin, Press and Communications (202) 376-7700.

Debra A. Carr,
Deputy General Counsel.

[FR Doc. 02-5193 Filed 2-28-02; 12:54 pm]

BILLING CODE 6335-01-M